DEPARTMENT OF EDUCATION

[CFDA NO.: 84.031H]

Strengthening Institutions (SIP), American Indian Tribally Controlled Colleges and Universities (TCCU), Alaska Native and Native Hawaiian-Serving Institutions (ANNH) and Developing Hispanic-Serving Institutions (HSI) Programs; Notice Inviting Applications for Designation as Eligible Institutions for Fiscal Year (FY) 2001

Purpose of Programs: Under the Strengthening Institutions, American Indian Tribally Controlled Colleges and Universities, and Alaska Native and Native Hawaiian-Serving Institutions Programs authorized under Part A of Title III of the Higher Education Act of 1965, as amended (HEA), institutions of higher education are eligible to apply for grants if they meet specific statutory and regulatory eligibility requirements. Similarly, HSIs are eligible to apply for grants under the HSI Program, authorized under Title V of the HEA, if they meet specific statutory and regulatory requirements.

In addition, an institution that is designated as an eligible institution under those programs may also receive a waiver of certain non-Federal share requirements under the Federal Supplemental Educational Opportunity Grant (FSEOG), Federal Work Study (FWS), and Undergraduate International Studies and Foreign Language Programs (UISFLP). These first two programs are student financial assistance programs authorized under Title IV of the HEA; the third program is authorized under Title VI of the HEA. Qualified institutions may receive these waivers even if they are not recipients of grant funds under the Title III Part A or Title V programs.

Special Note: To become eligible, your institution must satisfy a criterion related to needy student enrollment and one related to Educational and General (E&G) expenditures for a particular base year. Because we changed the collection processes for determining the thresholds for these criteria, we do not have base year data beyond 1997-98. In order to award FY 2001 grants in a timely manner, we will use threshold data from base year 1997-98 rather than a later base year. In completing your eligibility application, therefore, you are to use data from the base year 1997-98.

Eligible Applicants: To qualify as an eligible institution under any of the programs included in this notice, an accredited institution must, among other requirements, have a high enrollment of needy students, and its E&G expenditures per full-time equivalent (FTE) undergraduate student must be low in comparison with the average E&G expenditures per FTE undergraduate student of institutions that offer similar instruction. The complete eligibility requirements for the HSI Program are found in 34 CFR 606.2-606.5, which was published in the Federal Register of December 15, 1999 (64 FR 70146-70153). The complete eligibility requirements for the remaining programs are found in 34 CFR 607.2-607.5, a portion of which was also amended in the Federal Register of December 15, 1999 (64 FR 70146, 70153-70155). The regulations may also be accessed by visiting the following Department of Education web site on the World Wide Web:

http:/www.ed.gov/legislation/FedRegister/finrule/1999-4/121599a.html

Enrollment of Needy Students: Under 34 CFR 606.3(a) and 607.3(a), an institution is considered to have a high enrollment of needy students if—(1) at least 50 percent of its degree students received financial assistance under one or more of the following programs: Federal Pell Grant, FSEOG, FWS, and Federal Perkins Loan Programs; or (2) the percentage of its undergraduate degree students who were enrolled on at least a half-time basis and received Federal Pell Grants exceeded the median percentage of undergraduate degree students who were enrolled on at least a half-time basis and received Federal Pell Grants at comparable institutions that offered similar instruction.

To qualify under this latter criterion, an institution's Federal Pell Grant percentage for base year 1997-1998 must be more than the median for its category of comparable institutions provided in the table in this notice.

Educational and General Expenditures Per Full-Time Equivalent Student: An institution should compare its 1997-1998 average E&G expenditures per FTE student to the average E&G expenditure per FTE student for its category of comparable institutions contained in the table in this notice. If the applicant institution's E&G expenditures for the 1997-1998 base year are less than the average for its category of comparable institutions, it meets this eligibility requirement.

An institution's E&G expenditures are the total amount it expended during the base year for instruction, research, public service, academic support, student services, institutional support, operation and maintenance, scholarships and fellowships, and mandatory transfers.

The following table identifies the relevant median Federal Pell Grant percentages and the relevant average E&G expenditures per FTE student for the base year, 1997-98, for the four categories of comparable institutions:

Type of institution | Median Pell Grant percentage | Average E&G FTE
2-year Public Institutions | 18.0% | $7,092
2-year Non-Profit Private Institutions | 29.9 | 20,392
4-year Public Institutions | 24.8 | 17,715
4-year Non-Profit Private Institutions | 24.5 | 23,162

Waiver Information: Institutions of higher education that are unable to meet the needy student enrollment requirement or the E&G expenditures requirement may apply to the Secretary for waivers of these requirements, as described in 34 CFR 606.3(b), 606.4 (c) and (d), 607.3(b), and 607.4(c) and (d). Institutions requesting a waiver of the needy student or the E&G expenditures requirement must include the detailed information as set forth in the instructions for completing the application.

The needy student requirement waiver authority, provided in 34 CFR 606.3(b)(2) and (3) and 607.3(b)(2) and (3), refers to “low-income” students and families. The regulations define “low-income” as an amount that does not exceed 150 percent of the amount equal to the poverty level in the 1997-1998 base year as established by the U.S. Bureau of the Census, 34 CFR 606.3(c) and 607.3(c). For the purposes of this waiver provision, the following table sets forth the low-income levels for the various sizes of families:

Annual Low-Income Levels for 1997-98
Size of family unit | Contiguous 48 States, the District of Columbia and Outlying | Alaska | Hawaii
1 | $11,835 | $14,805 | $13,605
2 | 15,915 | 19,905 | 18,300
3 | 19,995 | 25,005 | 22,995
4 | 24,075 | 30,105 | 27,690
5 | 28,155 | 35,205 | 32,385
6 | 32,235 | 40,305 | 37,080
7 | 36,315 | 45,405 | 41,775
8 | 40,395 | 50,505 | 46,470

For family units with more than eight members, add the following amount for each additional family member: $4,080 for the contiguous 48 states, the District of Columbia and outlying jurisdictions; $5,100 for Alaska; and $4,695 for Hawaii.

The figures shown as low-income levels represent amounts equal to 150 percent of the family income levels established by the U.S. Bureau of the Census for determining poverty status. The Census levels were published by the U.S. Department of Health and Human Services in the Federal Register on March 10, 1997 (62 FR 10856-10859).

In reference to the waiver option specified in 606.3(b)(4) and 607.3(b)(4) of the regulations, information about “metropolitan statistical areas” may be obtained by requesting the Metropolitan Statistical Areas, 1999, order number PB99-501538, from the National Technical Information Services, Document Sales, 5285 Port Royal Road, Springfield, Virginia 22161, telephone number 1-800-553-6847. There is a charge for this publication.

Applications Available: November 30, 2000.

Deadline for Transmittal of Applications:

• February 2, 2001 for applicant institutions that wish to apply for fiscal year 2001 grants under the Strengthening Institutions, American Indian Tribally Controlled Colleges and Universities, Alaska Native and Native Hawaiian-Serving Institutions, or the HSI Programs.

• May 25, 2001 for applicant institutions that wish to apply only for cost-sharing waivers under the FSEOG, FWS, or UISFLP Programs.

• February 2, 2001 for applicant institutions that wish to apply for both a grant and a waiver of the cost-sharing requirements.

Electronic Submission of Applications: For FY 2001, we are again offering applicant institutions the option of submitting their Designation of Eligibility application in hard copy or sending it electronically to our eligibility web site:

http://webprod.cbmiweb.com/title3and5/index.html

To enter the web site, you must use your institution's unique 8-digit identifier, i.e. your OPE ID number. Your business office or student financial aid office should have the OPE ID number. If your business office or student financial aid office does not have that OPE ID number, contact a Department of Education staff member using the e-mail address located at the end of the Web page or the contact persons' telephone numbers or e-mail addresses included in this notice.

You may find more detailed instructions for completing the form electronically under the “eligibility 2001” link at either of the following web sites:

http://www.ed.gov/offices/OPE/HEP/idues/title3a.html

http://www.ed.gov/hsi

We encourage applicants to complete their form electronically and to complete it as soon as possible. For institutions of higher education that are unable to meet the needy student enrollment requirement or the E&G expenditure requirement and wish to request a waiver of one or both of those requirements, you may complete your designation application form on-line, print the form, and attach your narrative waiver request(s) to the printed form and mail both to the address in the next paragraph.

Mail your Designation of Eligibility application request to: U.S. Department of Education, 1990 K Street, NW, Request for Eligibility Designation, Washington, DC 20006-8513.

Applicable Regulations: (a) The Education Department General Administrative Regulations in 34 CFR parts 74, 75, 77, 82, 85, 86, 97, 98 and 99 and (b) The regulations for the SIP in 34 CFR part 607, and the HSI Program in 34 CFR part 606.

For Applications and Further Information Contact: Thomas M. Keyes or Margaret A. Wheeler, Institutional Development and Undergraduate Education Service, U.S. Department of Education, 1990 K Street, NW., Request for Eligibility Designation, Washington, DC 20006-8513. Mr. Keyes' telephone number is (202) 502-7577. Ms. Wheeler's telephone number is (202) 502-7583. Mr. Keyes and Ms. Wheeler may be reached by e-mail at:

thomas_keyes@ed.gov

margaret_wheeler@ed.gov

If you use a telecommunications device for the deaf (TDD), you may call the Federal Information Relay Service (FIRS) at 1-800-877-8339.

Individuals with disabilities may obtain this document in an alternative format (e.g., Braille, large print, audio-tape, or computer diskette) on request to the program contact persons listed under FOR APPLICATIONS AND FURTHER INFORMATION CONTACT.

Individuals with disabilities may obtain a copy of the application package in an alternative format by contacting those persons. However, the Department is not able to reproduce in an alternative format the standard forms included in the application package.

Electronic Access to This Document

You may view this document, as well as all other Department of Education documents published in the Federal Register, in text or Adobe Portable Document Format (PDF) on the Internet at either of the following sites:

http://ocfo.ed.gov/fedreg.htm

http://www.ed.gov/news.html

To use PDF you must have Adobe Acrobat Reader which is available free at either of the previous sites. If you have questions about using PDF, call the U.S. Government Printing Office (GPO), toll free, at 1-888-293-6498; or in the Washington, DC area at (202) 572-1530.

Note: The official version of this document is the document published in the Federal Register. Free Internet access to the official edition of the Federal Register and the Code of Federal Regulations is available on GPO Access at: http://www.access.gpo.gov/nara/index/html

Program Authority: 20 U.S.C. 1057, 1059c, and 1065a.

Dated: November 9, 2000.
A. Lee Fritschler,
Assistant Secretary, Office of Postsecondary Education.

[FR Doc. 00-29302 Filed 11-15-00; 8:45 am]

BILLING CODE 4001-01-P